DEPARTMENT OF THE INTERIOR

Bureau of Land Management

California Desert District Advisory Council; Meeting

AGENCY: Bureau of Land Management, Interior.

ACTION: Notice of public meeting.

SUMMARY: Notice is hereby given, in accordance with Public Laws 92-463 and 94-579, that the California Desert District Advisory Council to the Bureau of Land Management, U.S. Department of the Interior, will participate in a field tour of BLM-administered public lands on Friday, November 14, 2008 from 8 a.m. to 4 p.m., and meet in formal session on Saturday, November 15 from 8 a.m. to 4 p.m. at the Heritage Inn and Suites, 1050 N. Norma, Ridgecrest, CA.

The Council and interested members of the public will depart for the field tour at 8 a.m. from the lobby of the Heritage Inn and Suites. The public is welcome to participate in the tour but should plan on providing their own transportation, lunch, and beverage. A four-wheel drive vehicle is strongly recommended for the field tour.

Agenda topics for the formal session on Saturday will include updates by Council members and reports from the BLM District Manager and five field office managers. Additional agenda topics are being developed. Once finalized, the field tour and meeting agendas will be published in a news release prior to the meeting and posted on the BLM California state Web site at http://www.blm.gov/ca/news/rac.html.

SUPPLEMENTARY INFORMATION: All California Desert District Advisory Council meetings are open to the public. Public comment for items not on the agenda will be scheduled at the beginning of the meeting Saturday morning. Time for public comment may be made available by the Council Chairman during the presentation of various agenda items, and is scheduled at the end of the meeting for topics not on the agenda.

While the Saturday meeting is tentatively scheduled from 8 a.m. to 4 p.m., the meeting could conclude prior to 4 p.m. should the Council conclude its presentations and discussions. Therefore, members of the public interested in a particular agenda item or discussion should schedule their arrival accordingly.

Written comments may be filed in advance of the meeting for the California Desert District Advisory Council, c/o Bureau of Land Management, External Affairs, 22835 Calle San Juan de Los Lagos, Moreno Valley, California 92553. Written comments also are accepted at the time of the meeting and, if copies are provided to the recorder, will be incorporated into the minutes.

FOR FURTHER INFORMATION CONTACT: David Briery, BLM California Desert District External Affairs, (951) 697-5220.

Dated: September 17, 2008.
Steven J. Borchard,
District Manager.

[FR Doc. E8-22923 Filed 9-29-08; 8:45 am]

BILLING CODE 4310-40-P